DEPARTMENT OF COMMERCE

International Trade Administration

[C-533-858]

Certain Oil Country Tubular Goods From India: Rescission of Countervailing Duty Administrative Review; 2015

AGENCY: Enforcement and Compliance, International Trade Administration, Department of Commerce.

SUMMARY: The Department of Commerce is rescinding the administrative review of the countervailing duty (CVD) order on certain oil country tubular goods (OCTG) from India, covering the period January 1, 2015, through December 31, 2015.

DATES: Effective May 26, 2017.

FOR FURTHER INFORMATION CONTACT: Elfi Blum, AD/CVD Operations Office VII, Enforcement and Compliance, International Trade Administration, U.S. Department of Commerce, 1401 Constitution Avenue NW., Washington, DC 20230; telephone (202) 482-0197.

SUPPLEMENTARY INFORMATION:

Background

On September 8, 2016, the Department published in the Federal Register a notice of opportunity to request administrative review of the CVD order on OCTG from India.¹ On September 30, 2016, Jindal SAW Ltd. (Jindal SAW) timely requested that the Department conduct an administrative review with respect to it.² Jindal SAW was the only party to request an administrative review. On November 9, 2016, the Department published in the Federal Register a notice of initiation of administrative review of the CVD order on certain OCTG from India, covering the period January 1, 2015, through December 31, 2015, with respect to Jindal SAW.³ On February 3, 2017, Jindal SAW timely withdrew its request for review.⁴

¹ See Antidumping or Countervailing Duty Order, Finding, or Suspended Investigation; Opportunity To Request Administrative Review, 81 FR 62096 (September 8, 2016).

² See Letter to the Department from Jindal SAW, dated September 30, 2016.

³ See Initiation of Antidumping and Countervailing Duty Administrative Reviews, 81 FR 78778 (November 9, 2016) (Initiation Notice).

⁴ See Letter to the Department from Jindal SAW, dated February 3, 2017 (JS Withdrawal Request).

Rescission of Review

Pursuant to 19 CFR 351.213(d)(1), the Secretary will rescind an administrative review, in whole or in part, if the parties that requested a review withdraw the request within 90 days of the date of publication of the notice of initiation of the requested review. As noted above, the Department published the initiation on November 9, 2016.⁵ Jindal SAW's withdrawal of administrative review request was submitted within the 90-day period following the publication of the Initiation Notice and, thus, is timely.⁶ No other party requested an administrative review of this CVD order. Therefore, in accordance with 19 CFR 351.213(d)(1), we are rescinding this review of the CVD order on certain OCTG from India.

⁵ See Initiation Notice.

⁶ Id.; see also JS Withdrawal Request.

Assessment

The Department will instruct U.S. Customs and Border Patrol (CBP) to assess countervailing duties on all appropriate entries. Because the Department is rescinding this review in its entirety, the entries to which this administrative review pertained shall be assessed countervailing duties at rates equal to the cash deposit of estimated countervailing duties required at the time of entry, or withdrawal from warehouse, for consumption, in accordance with 19 CFR 351.212(c)(1)(i). The Department intends to issue appropriate assessment instructions to CBP 15 days after the publication of this notice.

Notifications

This notice serves as a final reminder to parties subject to administrative protective order (APO) of their responsibility concerning the return or destruction of proprietary information disclosed under APO in accordance with 19 CFR 351.305, which continues to govern business proprietary information in this segment of the proceeding. Timely written notification of the return or destruction of the APO materials, or conversion to judicial protective order is hereby requested. Failure to comply with regulations and terms of an APO is a violation, which is subject to sanction.

This notice is issued and published in accordance with sections 751(a)(1) and 777(i)(l) of the Tariff Act of 1930, as amended, and 19 CFR 351.213(d)(4).

Dated: May 22, 2017.
Gary Taverman,
Deputy Assistant Secretary for Antidumping and Countervailing Duty Operations.

[FR Doc. 2017-10873 Filed 5-25-17; 8:45 am]

BILLING CODE 3510-DS-P